DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. National Study of Culturally and Linguistically Appropriate Services in Managed Care Organizations—NEW—The Office of Minority Health proposes to conduct a survey of a random sample of managed care organizations. The survey will provide data on the prevalence of policies and practices that promote the delivery of culturally and linguistically appropriate services, and identify factors that may facilitate or impede the implementation of such policies and practices. The information will inform the Office of Minority Health in the development of technical assistance materials. Respondents: Business or other for-profit, Non-profit organizations; Number of Respondents: 720; Frequency of Response: one time; Burden per Response: .42 hours; Total Burden: 300 hours.

OMB Desk Officer: Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington DC 20201. Written comments should be received within 30 days of this notice.

Dated: October 22, 2001.
Kerry Weems,
Acting Deputy Assistant Secretary, Budget.

[FR Doc. 01-27309 Filed 10-29-01; 8:45 am]

BILLING CODE 4150-29-M